EXPORT-IMPORT BANK OF THE U.S.

[Public Notice 92]

Agency Information Collection Activities: Submission for OMB Review; Comment Request

AGENCY: Export-Import Bank of the U.S.

ACTION: Notice and Request for Comments.

SUMMARY: The Export-Import Bank, as a part of its continuing effort to reduce paperwork and respondent burden, invites the general public and other Federal Agencies to comment on the proposed information collection as required by the Paperwork Reduction Act of 1995.

SUPPLEMENTARY INFORMATION: This notice is soliciting comments from the public concerning the proposed collection of information to (1) evaluate whether the proposed collection is necessary for the paper performance of the functions of the agency, including whether the information will have practical utility; (2) evaluate the accuracy of the agency's estimate of the burden of the proposed information collection of information; (3) enhance the quality, utility, and clarity of the information to be collected; and minimize the burden of collection of information on those who are to respond, including through the use of appropriated automated collection techniques or other forms of information technology, e.g., permitting electronic submission of responses.

DATES: Written comments should be received on or before December 4, 2006 to be assured of consideration.

ADDRESSES: Direct all comments or requests for additional information to Solomon Bush, Export-Import Bank of the U.S., 811 Vermont Avenue, NW., Washington, DC 20571, (202) 565-3353m or Solomon.bush@exim.gov.

Titles and Form Numbers: Export-Import Bank of the United States Application for Long-Term Loan or Guarantee, EID 95-10.

OMB Number: 3048-0014.

Type of Review: Revision and extension of a currently approved collection.

Need and Use: The information requested enables the applicant to provide Ex-Im Bank with the information necessary to determine eligibility for the loan and guarantee programs.

Affected Public: Business or other for-profit.

Respondents: Entities involved in the provision of financing or arranging of financing for foreign buyers of U.S. exports.

Estimated Annual Respondents: 84.

Estimated Time Per Respondent: 1.5 hours.

Estimated Annual Burden: 126 hours.

Frequency of Response: When applying for a long-term preliminary or final commitment.

Dated: September 26, 2006
Solomon Bush,
Agency Clearance Officer.

[FR Doc. 06-8472 Filed 10-3-06; 8:45 am]

BILLING CODE 6690-01-M